ENVIRONMENTAL PROTECTION AGENCY

[OPP-2002-0076; FRL-7179-3]

Solutions By Design II, LLC and Roy Hiler; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Solutions By Design II, LLC and its subcontractor, Roy Hiler, in accordance with 40 CFR 2.307(h)(3) and 2.308(i)(2). Solutions By Design II, LLC and its subcontractor, Roy Hiler, have been awarded a contract to perform work for OPP, and access to this information will enable Solutions By Design II, LLC and its subcontractor, Roy Hiler, to fulfill the obligations of the contract.

DATES: Solutions By Design II, LLC and its subcontractor, Roy Hiler, will be given access to this information on or before June 5, 2002.

FOR FURTHER INFORMATION CONTACT: By mail: Erik Johnson, FIFRA Security Officer, Information Resources and Services Division (7502C), Office of Pesticide Programs, Environmental Protection Agency, 1200 Pennsylvania Ave., NW., Washington, DC 20460; telephone number: (703) 305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

II. Contractor Requirements

Under Contract No. GS-35F-4717G, Solutions By Design II, LLC and its subcontractor, Roy Hiler, will perform the following : Provide analysis, design, development, installation and maintenance of OPP applications developed in Lotus Notes and their interconnectivity to other applications developed in Oracle. The Project Officer or his/her designee, after a written determination by the appropriate program office, may disclose FIFRA CBI to the contractor necessary to carry out work required under this contract.

For this work assignment, the contractor will be creating Lotus Notes applications that interface with the Oracle, Office of Pesticide Programs Information Network (OPPIN) System. The contractor will not be working on specific chemicals, however, the contractor may have access to FIFRA CBI information by troubleshooting a user issue containing this data. The contractor may have access to FIFRA CBI by testing applications that manipulate this data in the following data bases but not limited to: IHAD, LRS, and State Label Issue Tracking.

The OPP has determined that access by Solutions By Design II, LLC and its subcontractor, Roy Hiler, to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Solutions By Design II, LLC and its subcontractor, Roy Hiler, prohibits use of the information for any purpose not specified in the contract; prohibits disclosure of the information to a third party without prior written approval from the Agency; and requires that each official and employee of the contractor sign an agreement to protect the information from unauthorized release and to handle it in accordance with the FIFRA Information Security Manual. In addition, Solutions By Design II, LLC and its subcontractor, Roy Hiler, are required to submit for EPA approval a security plan under which any CBI will be secured and protected against unauthorized release or compromise. No information will be provided to Solutions By Design II, LLC and its subcontractor, Roy Hiler, until the requirements in this document have been fully satisfied. Records of information provided to Solutions By Design II, LLC and its subcontractor, Roy Hiler, will be maintained by EPA Project Officers for this contract. All information supplied to Solutions By Design II, LLC and its subcontractor, Roy Hiler, by EPA for use in connection with this contract will be returned to EPA when

Solutions By Design II, LLC and its subcontractor, Roy Hiler, have completed their work.

List of Subjects

Environmental protection, Business and industry, Government contracts, Government property, Security measures.

Dated: May 13, 2002.
Linda Vlier Moos,
Acting Director, Information Resources and Services Division, Office of Pesticide Programs.

[FR Doc. 02-13523 Filed 5-30-02; 8:45 am]

BILLING CODE 6560-50-S